NUCLEAR REGULATORY COMMISSION

Sunshine Federal Register Notice

AGENCY HOLDING THE MEETINGS: Nuclear Regulatory Commission.

DATES: Weeks of November 5, 12, 19, 26; December 3, 10, 2007.

PLACE: Commissioners' Conference Room, 11555 Rockville Pike, Rockville, Maryland.

STATUS: Public and closed.

MATTERS TO BE CONSIDERED:

Week of November 5, 2007

There are no meetings scheduled for the week of November 5, 2007.

Week of November 12, 2007—Tentative

Wednesday, November 14, 2007

9:30 a.m.

Meeting with Advisory Committee on Nuclear Waste and Materials (ACNW&M) (Public Meeting) (Contact: Antonio Dias, 301-415-6805).

This meeting will be webcast live at the Web address— http://www.nrc.gov.

Week of November 19, 2007—Tentative

There are no meetings scheduled for the week of November 19, 2007.

Week of November 26, 2007—Tentative

Tuesday, November 27, 2007

9:30 a.m.

Discussion of Security Issues (Closed—Ex. 1 & 3).

1:30 p.m.

Briefing on Equal Employment Opportunity (EEO) Programs (Public Meeting) (Contact: Sandra Talley, 301-415-8059).

This meeting will be webcast live at the Web address— http://www.nrc.gov.

Week of December 3, 2007—Tentative

Tuesday, December 4, 2007

9:30 a.m.

Briefing on Threat Environment Assessment (Closed—Ex. 1).

Friday, December 7, 2007

10 a.m.

Discussion of Intragovernmental Issues (Closed—Ex. 1 & 9).

Week of December 10, 2007—Tentative

Wednesday, December 12, 2007

9:30 a.m.

Discussion of Management Issues (Closed—Ex. 2).

Thursday, December 13, 2007

9:30 a.m.

Discussion of Management Issues (Closed—Ex. 2).

* The schedule for Commission meetings is subject to change on short notice. To verify the status of meetings, call (recording)—(301) 415-1292. Contact person for more information: Michelle Schroll, (301) 415-1662.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g., braille, large print), please notify the NRC's Disability Program Coordinator, Rohn Brown, at 301-492-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: November 1, 2007.
R. Michelle Schroll,
Office of the Secretary.

[FR Doc. 07-5570 Filed 11-6-07; 11:05 am]

BILLING CODE 7590-01-P